DEPARTMENT OF THE INTERIOR

Bureau of Land Management

[LLNVE02000-L5110.0000-GN.0000-LV.EM.F1503680-15X; MO# 4500133725]

Notice of Availability of the Final Environmental Impact Statement for the Rossi Mine Expansion Project, Elko County, NV

AGENCY: Bureau of Land Management, Interior.

ACTION: Notice of availability.

SUMMARY: In accordance with the National Environmental Policy Act of 1969 (NEPA), as amended, and the Federal Land Policy and Management Act of 1976, as amended, the Bureau of Land Management (BLM) has prepared a Final Environmental Impact Statement (EIS) for the Rossi Mine Expansion Project and by this notice is announcing its availability.

DATES: The Final EIS will be available for a 30-day review period following the date the Environmental Protection Agency (EPA) publishes its Notice of Availability in the Federal Register. The BLM will not issue a final decision on the proposal for a minimum of 30 days from the date that the EPA publishes its notice in the Federal Register.

ADDRESSES: Copies of the Final EIS for the Rossi Mine Expansion Project are available for public review and can be obtained at the BLM Elko District Office, located at 3900 East Idaho Street, Elko Nevada 89801, and at the BLM's NEPA eplanning website at https://go.usa.gov/xnRCr or through eplanning on the BLM's website at http://www.blm.gov/nv.

FOR FURTHER INFORMATION CONTACT: Janice Stadelman, Project Manager, at telephone 775-753-0346; address 3900 East Idaho Street, Elko, Nevada 89801; email: blm_nv_eldo_rossimine_project_eis@blm.gov.

Persons who use a telecommunications device for the deaf (TDD) may call the Federal Relay Service (FRS) at 1-800-877-8339 to contact Ms. Stadelman during normal business hours. FRS is available 24 hours a day, 7 days a week, to leave a message or question. You will receive a reply during normal business hours.

SUPPLEMENTARY INFORMATION: The Final EIS is an abbreviated document that presents updates to the Draft EIS resulting from public and cooperating agency comments received during the 45-day public comment period. Public comments resulted in the addition of clarifying text, but did not significantly change the analysis. None of the public comments received resulted in major changes or revisions to the Draft EIS. Therefore, this abbreviated Final EIS must be read in conjunction with the Draft EIS (September 2018), which is also located on BLM's eplanning site at https://go.usa.gov/xnRCr.

The EIS analyzed the proposed modification submitted by Halliburton Energy Services to their plan of operations for the Rossi Mine Project. The proposal includes the continuation of the existing mine infrastructure, but would expand the existing facilities and operation to support the continuation of the open pit mining operation and surface exploration activities for barite. The proposed action would increase the disturbance to approximately a total acreage of 2,063 acres of public and private land, including 896 acres of previously approved or existing disturbance and 1,167 acres of new land disturbance. Of the 2,063 acres of surface disturbance, approximately 209 acres consist of private land and the remaining 1,854 acres are public land administered by the BLM. The proposed expansion would provide up to an estimated 433 jobs, some of which could be filled by returning and new employees.

The proposed action includes the expansion of the existing plan of operations boundary, the expansion of the existing open pits, the development of new open pits, expansion of the existing waste rock disposal facilities, construction of new waste rock disposal facilities, expansion or modification of ancillary facilities, expansion and development of new roads, re-alignment of segments of the Boulder Valley Road and Antelope-Boulder Connector Road, installation of new power distribution lines, the continuation of surface exploration, and reclamation activities. The proposed expansion is projected to add 8 years to the mine's life. The Project is located on the northern end of the Carlin Trend in Elko County, approximately 25 miles north of the community of Dunphy and 28 aerial miles northwest of the town of Carlin, Nevada.

The Notice of Availability of the Draft EIS for the Rossi Mine Expansion Project published on September 14, 2018 (83 FR 46753), with a 45-day comment period. The BLM issued a news release and held two public meetings during the comment period. A total of nine people signed the attendance sheets available at the meetings. Those attending the public meetings consisted of representatives from the BLM, Halliburton, and the Nevada Department of Wildlife, and four members from the general public. The BLM received a total of eight comment submittals (e.g. letter, comment form, email) during the comment period. Key issues identified by individuals, groups, and government entities include potential impacts and mitigation for sage-grouse and mule deer habitat; impacts, mitigation and monitoring related to groundwater; direct, cumulative and socioeconomic impacts to livestock grazing management; maintenance of the access road; minimizing night lighting impacts; complying with State regulations and permitting with the State agencies regarding air and water; and support for the project.

The BLM is the lead Federal agency for this EIS. Cooperating agencies included the Nevada Department of Wildlife, the Nevada Department of Conservation and Natural Resources Sagebrush Ecosystem Technical Team, the U.S. Fish and Wildlife Service, the Elko County Board of Commissioners, and the EPA. The agency-preferred alternative is the Reconfiguration Alternative, which consists of the Proposed Action and the reconfiguration of the waste rock disposal facilities.

Following a 30-day Final EIS availability and review period, a Record of Decision (ROD) will be issued. The decision reached in the ROD is subject to appeal to the Interior Board of Land Appeals. The 30-day appeal period begins with the issuance of the ROD.

(Authority: 40 CFR 1506.6, 40 CFR 1506.10)

Jill C. Silvey,
District Manager, Elko District Office.

[FR Doc. 2019-12628 Filed 6-13-19; 8:45 am]

BILLING CODE 4310-HC-P